DEPARTMENT OF TRANSPORTATION

Federal Aviation Administration

14 CFR Part 39

[Docket No. FAA-2008-0910; Directorate Identifier 2008-NM-033-AD; Amendment 39-15749; AD 2008-24-09]

RIN 2120-AA64

Airworthiness Directives; Airbus Model A330-200, A330-300, A340-300, A340-500, and A340-600 Series Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

An A330 operator reported a shroud box bottom panel missing during a routine inspection. The same panel detached from an A330 aircraft during take-off, causing damage to the surrounding structure and to the Trimmable Horizontal Stabilizer (THS) tip fairing.

The inspection indicated the blind rivets used to attach the panel worked loose causing fatigue damage with crack propagation through the fastener line resulting in panel detachment * * *.

* * * Three additional events of panel loss have been experienced on in service aircraft already inspected in accordance with the AD requirements * * *.

We are issuing this AD to require actions to correct the unsafe condition on these products.

DATES: This AD becomes effective January 2, 2009.

The Director of the Federal Register approved the incorporation by reference of certain publications listed in this AD as of January 2, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on August 26, 2008 (73 FR 50256) and proposed to supersede AD 2007-08-05, Amendment 39-15022 (72 FR 18563, April 13, 2007). That NPRM proposed to correct an unsafe condition for the specified products. The MCAI states:

An A330 operator reported a shroud box bottom panel missing during a routine inspection. The same panel detached from an A330 aircraft during take-off, causing damage to the surrounding structure and to the Trimmable Horizontal Stabilizer (THS) tip fairing.

The inspection indicated the blind rivets used to attach the panel worked loose causing fatigue damage with crack propagation through the fastener line resulting in panel detachment.

To avoid potential injuries to persons on ground, Airworthiness Directive (AD) 2006-0107 [which corresponds with FAA AD 2007-08-05] mandated a one time detailed visual inspection of the shroud box bottom panel.

Further to issuance of AD 2006-0107, three additional events of panel loss have been experienced on in service aircraft already inspected in accordance with the AD requirements and no findings. Thus, it has been decided to delete this one time detailed visual inspection and to mandate a modification which prevents such unsafe condition. Therefore, the present AD supersedes EASA AD 2006-0107 and mandates the installation of a bolted shroud box bottom panel instead of blind riveted metallic design.

The modification includes doing all applicable related investigative and corrective actions. The related investigative action is an inspection to detect cracks of the shroud box hole. The corrective action is repairing any cracked shroud box hole. The applicability of the MCAI has been revised; certain airplanes have been removed and others added. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 34 products of U.S. registry. We also estimate that it will take about 20 work-hours per product to comply with the basic requirements of this AD. The average labor rate is $80 per work-hour. Required parts will cost about $990 per product. Where the service information lists required parts costs that are covered under warranty, we have assumed that there will be no charge for these parts. As we do not control warranty coverage for affected parties, some parties may incur costs higher than estimated here. Based on these figures, we estimate the cost of this AD to the U.S. operators to be $88,060, or $2,590 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15022 (72 FR 18563, April 13, 2007) and adding the following new AD:

2008-24-09 Airbus: Amendment 39-15749. Docket No. FAA-2008-0910; Directorate Identifier 2008-NM-033-AD.

Effective Date

(a) This airworthiness directive (AD) becomes effective January 2, 2009.

Affected ADs

(b) This AD supersedes AD 2007-08-05, Amendment 39-15022.

Applicability

(c) This AD applies to Airbus airplanes identified in Table 1 of this AD; certificated in any category.

Table 1—Applicability
For model— | On which— | Except for those airplanes on which—
(1) A330-200, A330-300, and A340-300 series, all certified models, all serial numbers | Airbus modification 46077 has been embodied in production | Airbus Modification 55568 has been done in production, or Airbus Mandatory Service Bulletin A330-57-3100 or Airbus Mandatory Service Bulletin A340-57-4109 has been embodied in service.
(2) Airbus A340-500 and A340-600 series, all certified models, all serial numbers | None | Airbus Modification 55568 has been embodied in production, or Airbus Mandatory Service Bulletin A340-57-5018 has been embodied in service.

Subject

(d) Air Transport Association (ATA) of America Code 57: Wings.

Reason

(e) The mandatory continuing airworthiness information (MCAI) states:

An A330 operator reported a shroud box bottom panel missing during a routine inspection. The same panel detached from an A330 aircraft during take-off, causing damage to the surrounding structure and to the Trimmable Horizontal Stabilizer (THS) tip fairing.

The inspection indicated the blind rivets used to attach the panel worked loose causing fatigue damage with crack propagation through the fastener line resulting in panel detachment.

To avoid potential injuries to persons on ground, Airworthiness Directive (AD) 2006-0107 [which corresponds with FAA AD 2007-08-05] mandated a one time detailed visual inspection of the shroud box bottom panel.

Further to issuance of AD 2006-0107, three additional events of panel loss have been experienced on in service aircraft already inspected in accordance with the AD requirements and no findings. Thus, it has been decided to delete this one time detailed visual inspection and to mandate a modification which prevents such unsafe condition. Therefore, the present AD supersedes EASA AD 2006-0107 and mandates the installation of a bolted shroud box bottom panel instead of blind riveted metallic design.

The modification includes doing all applicable related investigative and corrective actions. The related investigative action is an inspection to detect cracks of the shroud box hole. The corrective action is repairing any cracked shroud box hole.

New Requirements of This AD: Actions and Compliance

(f) Unless already done: Within 69 months after the effective date of this AD, modify the shroud box bottom skin panel on both wings, and do all applicable related investigative and corrective actions, by accomplishing all the actions in the applicable service bulletins identified in Table 2 of this AD. Do all applicable related investigative and corrective actions before further flight.

Table 2—Service Bulletins
Service Bulletin— | Date—
Airbus Mandatory Service Bulletin A330-57-3100 | October 1, 2007.
Airbus Mandatory Service Bulletin A340-57-4109 | October 1, 2007.
Airbus Mandatory Service Bulletin A340-57-5018 | October 1, 2007.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0002, dated January 7, 2008, and the service bulletins identified in Table 2 of this AD for related information.

Material Incorporated by Reference

(i) You must use the service information specified in Table 3 of this AD to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; fax +33 5 61 93 45 80, e-mail airworthiness.A330-A340@airbus.com; Internet http://www.airbus.com.

(3) You may review copies at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Table 3—Material Incorporated by Reference
Service Bulletin— | Date—
Airbus Mandatory Service Bulletin A330-57-3100 | October 1, 2007.
Airbus Mandatory Service Bulletin A340-57-4109 | October 1, 2007.
Airbus Mandatory Service Bulletin A340-57-5018 | October 1, 2007.

Issued in Renton, Washington, on November 16, 2008.
Stephen P. Boyd,
Assistant Manager, Transport Airplane Directorate, Aircraft Certification Service.

[FR Doc. E8-27940 Filed 11-26-08; 8:45 am]

BILLING CODE 4910-13-P